EXPORT-IMPORT BANK

[Public Notice: 2017-6011]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995. Our customers will be able to submit this form on paper or electronically.

This form is used by insurance brokers to register with Export-Import Bank. It provides EXIM staff with the information necessary to make a determination of the eligibility of the broker to receive commission payments under Export-Import Bank's credit insurance programs.

DATES: Comments must be received on or before February 15, 2018 to be assured of consideration.

ADDRESSES: Comments may be submitted electronically on WWW.REGULATIONS.GOV (EIB 92-79) or by mail to Office of Information and Regulatory Affairs, 725 17th Street NW, Washington, DC 20038 Attn: OMB 3048-0024 Form can be viewed at http://www.exim.gov/pub/pending/eib92-79.pdf

SUPPLEMENTARY INFORMATION:

Title and Form Number: EIB 92-79 Broker Registration Form.

OMB Number: 3048-0024.

Type of Review: Regular.

Need and Use: This form is used by insurance brokers to register with Export Import Bank. The form provides EXIM staff with the information necessary to make a determination of the eligibility of the broker to receive commission payments under Export Import Bank's credit insurance programs.

Affected Public: This form affects entities engaged in brokering export credit insurance policies.

Annual Number of Respondents: 17.

Estimated Time per Respondent: 15 minutes.

Frequency of Reporting or Use: Once every three years.

Annual Public Burden: 4.25 hours.

Government Expenses:

Reviewing Time/Hours: 2.

Responses per Year: 17.

Review Time per Year: 34 hours.

Average Wages per Hour: $42.5.

Wages per Year: $1,445.

Benefits & Overhead: 20%.

Total Government Cost: $1,734.

Bassam Doughman,
IT Specialist.

[FR Doc. 2018-00511 Filed 1-12-18; 8:45 am]

BILLING CODE 6690-01-P